DEPARTMENT OF VETERANS AFFAIRS

Advisory Committee on Cemeteries and Memorials; Notice of Meeting

The Department of Veterans Affairs (VA) gives notice under Public Law 92-463 (Federal Advisory Committee Act) that a meeting of the Advisory Committee on Cemeteries and Memorials will be held May 16-17, 2007, at the Courtyard by Marriott Atlanta Buckhead, 3332 Peachtree Road, NE., Atlanta, GA. On May 16, the meeting will begin at 8 a.m. and conclude at 3:45 p.m. On May 17, the meeting will begin at 8:30 a.m. and conclude at approximately 4 p.m. The meeting is open to the public.

The purpose of the Committee is to advise the Secretary of Veterans Affairs on the administration of national cemeteries, soldiers' lots and plots, the selection of new national cemetery sites, the erection of appropriation memorials, and the adequacy of Federal burial benefits.

On May 16, 2007, the Committee will receive updates on National Cemetery Administration issues. On May 17, 2007, the Committee will tour Georgia and Marietta National Cemeteries and then reconvene at the hotel for a business session in the afternoon, which will include discussions of Committee recommendations, future meeting sites, and potential agenda topics at future meetings.

Time will not be allocated for receiving oral presentations from the public. Any member of the public wishing to attend the meeting should contact Mr. Michael Nacincik, Designated Federal Officer, at (202) 273-5221. The Committee will accept written comments. Comments may be transmitted electronically to the Committee at Michael.n@va.gov or mailed to the National Cemetery Administration (41C2), 810 Vermont Avenue, NW., Washington, DC 20420. In the public's communications with the Committee, the writers must identify themselves and state the organizations, associations, or persons they represent.

Dated: April 16, 2007.
By direction of the Secretary.
E. Philip Riggin,
Committee Management Officer.

[FR Doc. 07-1970 Filed 4-19-07; 8:45 am]

BILLING CODE 8320-01-M